DEPARTMENT OF AGRICULTURE

Food Safety and Inspection Service

[Docket No. 05-026N]

Nominations for the Howard E. Bauman Award

AGENCY: Food Safety and Inspection Service (FSIS), USDA.

ACTION: Notice.

SUMMARY: The Food Safety and Inspection Service (FSIS), a public health regulatory agency committed to ensuring that the nation's commercial supply of meat, poultry, and egg products is safe, wholesome, and correctly labeled and packaged, is soliciting nominations for the Howard E. Bauman Award. The award was created to recognize one or more persons who have shown longstanding commitment, leadership, and service to improving food safety. The Agency is interested in receiving nominations of persons who have positively affected food safety and public health.

DATES: Submit nominations by December 5, 2005.

ADDRESSES: The nomination form is available at: http://www.fsis.usda.gov/FSISForms/4450-1.pdf. Send nominations to Ms. Faye Smith, Special Assistant to the Deputy Administrator, FSIS, Room 331-E, 1400 Independence Avenue, SW., Washington, DC 20250-3700. Mailed nominations must be postmarked no later than December 5, 2005. You may also fax nominations to Ms. Smith at (202) 690-0550.

FOR FURTHER INFORMATION CONTACT: Ms. Smith at the address above or by telephone at (202) 720-7025.

SUPPLEMENTARY INFORMATION:

Background

The Howard E. Bauman Award is named to honor Dr. Howard E. Bauman, who was widely recognized for his pioneering efforts to develop the Hazard Analysis and Critical Control Point (HACCP) food safety system. HACCP is a preventative system that is designed to reduce the occurrence and numbers of pathogenic microorganisms on foods, particularly meat and poultry products, reduce the incidence of foodborne illness associated with consumption of those products, and provide a framework for modernization of the meat and poultry inspection system.

Since its full implementation in 2000, HACCP has been the foundation of the inspections that are performed daily by FSIS inspection program personnel at approximately 6,300 Federal meat and poultry establishments in the United States. The Howard E. Bauman Award is the highest food safety honor presented by FSIS. The non-monetary award was first presented posthumously in 2002 to Dr. Bauman. His daughter accepted the award on his behalf. In 2004, the award was presented to Dr. Dell Allen of Cargill, Incorporated, for his innovations and contributions to the meat and poultry industry in the area of food safety.

Eligibility Criteria

To be eligible for nomination, the candidate must meet the following criteria:

• Citizenship. Any U.S. citizen or citizens may be nominated.

• Improving Food Safety. The nominee's contribution must have significantly improved food safety and public health or have advanced the state of science toward that goal. The improvement need not be limited to the arena of meat, poultry, and egg products. The achievement may be of service to all citizens and should be described in terms meaningful to the lay person.

• Longstanding Commitment, Leadership, and Service. The nominee overcame challenges or collaborated with others to achieve the food safety improvement described above.

• Length. The narrative portion of the submitted nomination should not exceed two typed, single-spaced pages on standard 8.5x11 size paper using a font size of at least 12, in a style similar to Times New Roman style, and a one-inch margin. No bibliographies, news releases, or other documentation should be submitted with the completed form.

• Nominator. Any person or organization may nominate a person or persons for the award. Nominations submitted anonymously will not be considered. Nominations for the award will be reviewed by the Nomination Review Committee appointed by the Under Secretary for Food Safety and the Administrator of FSIS. The committee will rank all nominations that meet the basic criteria and forward its recommendations to the Under Secretary and Administrator. They will make the final determination of the recipient of the 2005 Howard E. Bauman Award, who will then be notified in writing. A ceremony will be held to present the 2005 award.

Additional Public Notification

Public awareness of all segments of rulemaking and policy development is important. Consequently, in an effort to ensure that the public, and in particular minorities, women, and persons with disabilities are aware of this notice, FSIS will announce it on-line through the FSIS Web page located at http://www.fsis.usda.gov/regulations/

2005 Notices_Index/.

FSIS also will make copies of this Federal Register publication available through the FSIS Constituent Update, which is used to provide information regarding FSIS policies, procedures, regulations, Federal Register notices, FSIS public meetings, recalls, and other types of information that could affect or would be of interest to constituents and stakeholders. The update is communicated via Listserv, a free e-mail subscription service consisting of industry, trade, and farm groups, consumer interest groups, allied health professionals, scientific professionals, and other individuals who have requested to be included. The update also is available on the FSIS web page. Through Listserv and the web page, FSIS is able to provide information to a much broader, more diverse audience.

In addition, FSIS offers an electronic mail subscription service that provides an automatic and customized notification when popular pages are updated, including Federal Register publications and related documents. This service is available at http://www.fsis.usda.gov/news_and_events/email_subscription/ and allows FSIS Customers to sign up for subscription options in eight categories. Options range from recalls to export information to regulations, directives, and notices. Customers can add or delete subscriptions themselves and have the option to protect their accounts with passwords.

Done at Washington, DC on October 31, 2005.
Barbara J. Masters,
Administrator.

[FR Doc. 05-21936 Filed 11-2-05; 8:45 am]

BILLING CODE 3410-DM-P